DEPARTMENT OF ENERGY

Federal Energy Regulatory Commission

[Project No. 459-173]

Union Electric Company dba AmerenUE; Notice Rejecting Filing

May 25, 2007.

On April 20, 2007, the Commission issued an order granting an application filed by AmerenUE, licensee for the Osage Hydroelectric Project No. 459, for non-project use of project lands.¹ On May 21, 2007, Duncan's Point Lot Owners Association, Inc.; Duncan's Point Homeowners Association, Inc.; and Nancy A. Brunson and Pearl Hankins, individually (Duncan's Point Owners) requested rehearing of the Commission's decision.

¹ 119 FERC ¶ 61,073 (2007).

The two page request for rehearing states without explanation that the Commission's order has not met the most minimal requirements of procedural due process.²

² Duncan's Point Owners request a 30-day extension to address the issues. Because the 30-day rehearing deadline is statutorily-based, we cannot grant the requested extension.

Section 313(a) of the Federal Power Act, 16 U.S.C. 825l (2000), requires an aggrieved party ³ to file its request for rehearing within 30 days after the issuance of the Commission order and to set forth specifically the ground or grounds upon which such request is based. Duncan's Point Owners' rehearing request raises no specific allegations of error with respect to the Commission's order. Therefore, it must be rejected.⁴

³ Juanita Brackens and Helen Davis were also listed in the caption of the request for rehearing. Because they did not file motions to intervene, they are not parties to the proceeding. Therefore, to the extent the request for rehearing was filed on behalf of Ms. Brackens and Ms. Davis, it must be rejected due to a lack of party status.

⁴ In addition, the pleading as filed is deficient because it failed to include a Statement of Issues, as required by Revision of Rules of Practice and Procedure Regarding Issue Identification, Order No. 663, 70 FR 55,723 (September 23, 2005), FERC Statutes and Regulations ¶ 31,193 (2005) as amended by Order 663-A, effective March 23, 2006, to limit its applicability to rehearing requests. Revision of Rules of Practice and Procedure Regarding Issue Identification, Order No. 663-A, 71 FR 14,640 (March 23, 2006), FERC Statutes and Regulations ¶ 31,211 (2006) (codified at 18 CFR 385.203(a)(7) and 385.713(c)(2) (2006)).

This notice constitutes final agency action. Request for rehearing of this rejection notice must be filed within 30 days of the date of issuance of this notice, pursuant to 18 CFR 385.713 (2006).

Kimberly D. Bose,
Secretary.

[FR Doc. E7-10534 Filed 5-31-07; 8:45 am]

BILLING CODE 6717-01-P